DEPARTMENT OF COMMERCE

National Oceanic and Atmospheric Administration

50 CFR Part 679

[Docket No.031124287-4060-02; I.D. 091304C]

Fisheries of the Exclusive Economic Zone Off Alaska; Non-Community Development Quota Trawl Gear in the Chum Salmon Savings Area of the Bering Sea and Aleutian Islands Management Area

AGENCY: National Marine Fisheries Service (NMFS), National Oceanic and Atmospheric Administration (NOAA), Commerce.

ACTION: Closure.

SUMMARY: NMFS is prohibiting fishing with Non-Community Development Quota (CDQ) trawl gear in the Chum Salmon Savings Area of the Bering Sea and Aleutian Islands management area (BSAI). This action is necessary because the 2004 non-CDQ limit of non-chinook salmon for vessels using trawl gear in the Catcher Vessel Operation Area (CVOA) has been reached.

DATES: Effective 1200 hrs, Alaska local time (A.l.t.), September 14, 2004, until 1200 hrs, A.l.t., October 14, 2004.

FOR FURTHER INFORMATION CONTACT: Mary Furuness, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

The 2004 limit of non-chinook salmon caught by vessels using trawl gear in the CVOA is 42,000 animals (§ 679.21(e)(7)(vii)). Regulations at § 679.21(e)(1)(i) allocate 7.5 percent of this amount, 3,150 animals, to the groundfish CDQ program as prohibited species quota reserve leaving 38,850 animals for the non-CDQ fishery. The CVOA is defined as that part of the BSAI that is south of 56°00′ N. lat. and between 163°00′ W. long. and 167°30′ W. long. (Figure 2 to 50 CFR part 679).

In accordance with § 679.21(e)(7)(vii), the Administrator, Alaska Region, NMFS (Regional Administrator), has determined that the 2004 non-CDQ limit of non-chinook salmon caught by vessels using trawl gear in the CVOA has been reached. Consequently, the Regional Administrator is prohibiting fishing with non-CDQ trawl gear in the Chum Salmon Savings Area defined at Figure 9 to 50 CFR part 679.

As of August 11, 2004, 0 mt of the non-chinook salmon CDQ reserve has been caught by vessels using trawl gear in the CVOA. Therefore, CDQ participants are not yet prohibited from fishing with trawl gear in the Chum Salmon Savings Area.

Classification

This action responds to the best available information recently obtained from the fishery. The Assistant Administrator for Fisheries, NOAA, (AA), finds good cause to waive the requirement to provide prior notice and opportunity for public comment pursuant to the authority set forth at 5 U.S.C. 553(b)(B) as such a requirement is impracticable and contrary to the public interest. This requirement is impracticable and contrary to the public interest as it would prevent NMFS from responding to the most recent fisheries data in a timely fashion and would delay prohibiting fishing with non-CDQ trawl gear in the Chum Salmon Savings Area.

The AA also finds good cause to waive the 30-day delay in the effective date of this action under 5 U.S.C. 553(d)(3). This finding is based upon the reasons provided above for waiver of prior notice and opportunity for public comment.

This action is required by § 679.21 and is exempt from review under Executive Order 12866.

Authority: 16 U.S.C. 1801 et seq.

Dated: September 14, 2004.
Alan D. Risenhoover,
Acting Director, Office of Sustainable Fisheries, National Marine Fisheries Service.

[FR Doc. 04-21001 Filed 9-14-04; 2:52 pm]

BILLING CODE 3510-22-S